DEPARTMENT OF TRANSPORTATION

Federal Aviation Administration

Proposed Establishment of Long Beach, CA, Class C Airspace Area and Revision of Santa Ana (John Wayne), CA, Class C Airspace Area; Public Meetings

AGENCY: Federal Aviation Administration (FAA), DOT.

ACTION: Notice of public meetings.

SUMMARY: This notice announces two fact-finding informal airspace meetings to solicit information from airspace users and others, concerning a proposal to establish Class C airspace at Long Beach, CA, and revise the Santa Ana (John Wayne) Class C airspace area, CA. The purpose of these meetings is to provide interested parties an opportunity to present views, recommendations, and comments on the proposal. All comments received during these meetings will be considered prior to any issuance of a notice of proposed rulemaking.

DATES: The informal airspace meetings will be held on Tuesday, June 22, 2010, and Wednesday, June 23, 2010. Meetings will run from 6 p.m. until 9 p.m. Comments must be received on or before July 31, 2010.

ADDRESSES: The meetings will be held at the Holiday Inn Hotel (Conference Center) Long Beach Airport, 2640 North Lakewood Blvd., Long Beach, CA 90815.

Comments: Send comments on the proposal, in triplicate, to: Clark Desing, Operations Support Group, AJV-W2, Western Service Area, Air Traffic Organization, Federal Aviation Administration, 1601 Lind Avenue, SW., Renton, WA 98057.

FOR FURTHER INFORMATION CONTACT: Francie Hope, Operations Support Group, Western Service Area, Air Traffic Organization, Federal Aviation Administration, 1601 Lind Avenue, SW., Renton, WA 98057; telephone: (425-203-4500).

SUPPLEMENTARY INFORMATION:

Meeting Procedures

(a) The meetings will be informal in nature and will be conducted by one or more representatives of the FAA Western Service Area. A representative from the FAA will present a briefing on the planned Class C airspace areas. Each participant will be given an opportunity to deliver comments or make a presentation, although a time limit may be imposed. Only comments concerning the plan to establish the Long Beach Class C airspace or the revision of Santa Ana (John Wayne), CA, Class C airspace area will be accepted.

(b) The meetings will be open to all persons on a space-available basis. There will be no admission fee or other charge to attend and participate.

(c) Any person wishing to make a presentation to the FAA panel will be asked to sign in and estimate the amount of time needed for such presentation. This will permit the panel to allocate an appropriate amount of time for each presenter. These meetings will not be adjourned until everyone on the list has had an opportunity to address the panel.

(d) Position papers or other handout material relating to the substance of these meetings will be accepted. Participants wishing to submit handout material should present an original and two copies (3 copies total) to the presiding officer. There should be additional copies of each handout available for other attendees.

(e) These meetings will not be formally recorded. However, a summary of comments made at the meetings will be filed in the docket.

Agenda for the Meetings

—Sign-in.

—Presentation of Meeting Procedures.

—Informal Presentation of the planned Class C Airspace areas.

—Public Presentations and Discussions.

—Closing Comments.

Issued in Washington, DC, on March 31, 2010.
Paul Gallant,
Acting Manager, Airspace and Rules Group.

[FR Doc. 2010-7652 Filed 4-2-10; 8:45 am]

BILLING CODE 4910-13-P